POSTAL REGULATORY COMMISSION

Sunshine Act Meetings

TIME AND DATE: Thursday, September 9, 2010 at 10 a.m. to 11:30 a.m., and continuing, as needed, on weekdays during regular Commission business hours, through Friday, October 1, 2010.

PLACE: Commission conference room, 901 New York Avenue, NW., Suite 200, Washington, DC 20268-0001.

STATUS: Closed.

MATTERS TO BE CONSIDERED: Decision in Docket No. R2010-4, Rate Adjustment due to Extraordinary or Exceptional Circumstances.

CONTACT PERSON FOR MORE INFORMATION: Stephen L. Sharfman, General Counsel, Postal Regulatory Commission, at stephen.sharfman@prc.gov or 202-789-6820.

Dated: August 19, 2010.
Shoshana M. Grove,
Secretary.

[FR Doc. 2010-21013 Filed 8-19-10; 4:15 pm]

BILLING CODE 7710-FW-S